SECURITIES AND EXCHANGE COMMISSION

[Release No. 34-69903A; File No. SR-CHX-2013-12]

Self-Regulatory Organizations; Notice of Filing and Immediate Effectiveness of Proposed Rule Change To Amend the Single-Sided Order Fees and Credits and the Order Cancellation Fee; Correction

July 1, 2013.

AGENCY: Securities And Exchange Commission.

ACTION: Notice; correction.

SUMMARY: The Securities and Exchange Commission published a document in the Federal Register of July 8, 2013 concerning a Notice of Filing and Immediate Effectiveness of Proposed Rule Change to Amend the Single-Sided Order Fees and Credits and the Order Cancellation Fee. The document was dated incorrectly.

FOR FURTHER INFORMATION CONTACT: Dhawal Sharma, Division of Trading and Markets, Securities and Exchange Commission, 100 F Street NE., Washington, DC 20549, (202) 551-5779.

Correction

In the Federal Register of July 8, 2013, in FR Doc. 2013-16232, on page 40788, in the 21st line of the second column, the date is corrected to read as noted above.

Kevin M. O'Neill,
Deputy Secretary.

[FR Doc. 2013-19514 Filed 8-12-13; 8:45 am]

BILLING CODE 8011-01-P